DEPARTMENT OF ENERGY

Federal Energy Regulatory Commission

Combined Notice of Filings #1

Take notice that the Commission received the following electric rate filings:

Docket Numbers: ER03-179-014.

Applicants: FPL Energy New Mexico Wind, LLC.

Description: Notification of Change in Status of FPL Energy New Mexico Wind, LLC.

Filed Date: 3/23/18.

Accession Number: 20180323-5208.

Comments Due: 5 p.m. ET 4/13/18.

Docket Numbers: ER11-2192-011.

Applicants: Red Mesa Wind, LLC.

Description: Notification of Change in Status of Red Mesa Wind, LLC.

Filed Date: 3/26/18.

Accession Number: 20180326-5246.

Comments Due: 5 p.m. ET 4/16/18.

Docket Numbers: ER11-3635-009.

Applicants: Hatch Solar Energy Center I, LLC.

Description: Notification of Change in Status of Hatch Solar Energy Center I, LLC.

Filed Date: 3/26/18.

Accession Number: 20180326-5245.

Comments Due: 5 p.m. ET 4/16/18.

Docket Numbers: ER16-1277-004.

Applicants: White Pine Solar, LLC.

Description: Notification of Change in Status of White Pine Solar, LLC.

Filed Date: 3/26/18.

Accession Number: 20180326-5251.

Comments Due: 5 p.m. ET 4/16/18.

Docket Numbers: ER17-2270-001.

Applicants: Stuttgart Solar, LLC.

Description: Notification of Change in Status of Stuttgart Solar, LLC.

Filed Date: 3/23/18.

Accession Number: 20180323-5207.

Comments Due: 5 p.m. ET 4/13/18.

Docket Numbers: ER18-1174-000.

Applicants: Imperial Valley Solar 2, LLC.

Description: Initial rate filing: Normal filing MBR to be effective 12/31/9998.

Filed Date: 3/26/18.

Accession Number: 20180326-5224.

Comments Due: 5 p.m. ET 4/16/18.

Docket Numbers: ER18-1175-000.

Applicants: Duke Energy Progress, LLC, PJM Interconnection, L.L.C.

Description: § 205(d) Rate Filing: Revisions to DEP-PJM JOA to Align Settlement Intervals to be effective 4/1/2018.

Filed Date: 3/26/18.

Accession Number: 20180326-5241.

Comments Due: 5 p.m. ET 4/16/18.

Docket Numbers: ER18-1176-000.

Applicants: Appalachian Power Company, Indiana Michigan Power Company, Kentucky Power Company, Kingsport Power Company, Ohio Power Company, Wheeling Power Company.

Description: Formula Rate PBOP 2017 filing of American Electric Power Service Corporation under New Docket. Formula Rate Post-employment Benefits Other than Pensions filing of the AEP East Operating Companies.

Filed Date: 3/23/18.

Accession Number: 20180323-5205.

Comments Due: 5 p.m. ET 4/13/18.

Docket Numbers: ER18-1177-000.

Applicants: Brookfield Energy Marketing LP.

Description: Petition for Limited Waiver of Brookfield Energy Marketing LP.

Filed Date: 3/23/18.

Accession Number: 20180323-5211.

Comments Due: 5 p.m. ET 4/13/18.

Docket Numbers: ER18-1178-000.

Applicants: PJM Interconnection, L.L.C.

Description: § 205(d) Rate Filing: Original WMPA SA No. 5038; Queue No. AC1-036 to be effective 3/15/2018.

Filed Date: 3/27/18.

Accession Number: 20180327-5003.

Comments Due: 5 p.m. ET 4/17/18.

Docket Numbers: ER18-1180-000.

Applicants: South Carolina Electric & Gas Company.

Description: § 205(d) Rate Filing: Attachment F to be effective 7/27/2015.

Filed Date: 3/27/18.

Accession Number: 20180327-5036.

Comments Due: 5 p.m. ET 4/17/18.

Take notice that the Commission received the following public utility holding company filings:

Docket Numbers: PH18-7-000.

Applicants: LS Power Development, LLC.

Description: LS Power Development, LLC submits FERC 65-B Non-Material Change in Fact of Waiver Notification.

Filed Date: 3/23/18.

Accession Number: 20180323-5210.

Comments Due: 5 p.m. ET 4/13/18.

Take notice that the Commission received the following electric reliability filings:

Docket Numbers: RD18-5-000.

Applicants: North American Electric Reliability Corporation, Western Electricity Coordinating Council.

Description: Joint Petition of the North American Electric Reliability Corporation and Western Electricity Coordinating Council for Approval of Proposed Regional Reliability Standard FAC-501-WECC-2.

Filed Date: 3/16/18.

Accession Number: 20180316-5246.

Comments Due: 5 p.m. ET 4/26/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 27, 2018.
Nathaniel J. Davis, Sr.,
Deputy Secretary.

[FR Doc. 2018-06624 Filed 3-30-18; 8:45 am]

BILLING CODE 6717-01-P